DEPARTMENT OF THE INTERIOR

National Park Service

Notice of Intent To Prepare an Environmental Assessment and Scoping

AGENCY: National Park Service, Department of the Interior.

ACTION: Notice of Intent to Prepare an Environmental Assessment and scoping for transferring jurisdiction of a portion of Fort Dupont Park to the District of Columbia for recreational development and uses and possible amendment of the 2004 Final Management Plan for Fort Circle Parks.

SUMMARY: In accordance with § 102(2)(C) of the National Environmental Policy Act (42 U.S.C. 4321 et. seq.), the National Park Service (NPS) will prepare an Environmental Assessment (EA) for transferring jurisdiction of a portion of NPS property within Fort Dupont Park, part of the Fort Circle Parks, to the District of Columbia (the District) for development of recreational facilities which may result in amending the NPS' 2004 Final Management Plan for Fort Circle Parks.

This also serves as an announcement of a public scoping comment period to run until July 24, 2008. Comments submitted to the Park or through Planning, Environment and Public Comment (PEPC) during the public scoping period and at public meetings for this EA will be considered as part of the planning process for the current proposed action. Comments submitted at the public meeting held May 12, 2008, will be considered as part of the planning process for the current proposed action and do not need to be resubmitted.

There is the possibility that the NPS might proceed to prepare an Environmental Impact Statement (EIS) in which case written comments submitted now on the scope of the alternatives and impacts will continue to be considered.

DATES: NPS is soliciting public input for the subject Proposed Action until July 24, 2008.

ADDRESSES: Comments may be submitted through the Planning, Environment and Public Comment (PEPC) Web site at http://parkplanning.nps.gov/NACE or by mail to: Superintendent, National Capital Parks-East, RE: Fort Dupont Park Land Transfer Proposal, 1900 Anacostia Drive, SE., Washington, DC 20020.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Gayle Hazelwood, Superintendent, National Capital Parks-East, RE: Fort Dupont Park Land Transfer Proposal, at 1900 Anacostia Drive, SE., Washington, DC 20020, by telephone at (202) 690-5127, or by e-mail at gayle_hazelwood@nps.gov.

SUPPLEMENTARY INFORMATION: The 376-acre Fort Dupont Park is one of the Civil War Defenses of Washington and is one of the Fort Circle Parks managed by the NPS. In 2004, the NPS completed the Final Management Plan for Fort Circle Parks and an action to transfer these lands to the District will likely result in amendment of that plan. The transfer is to facilitate the development of new recreational facilities and programs on the subject property by the District, including a proposal to create a baseball academy and another to expand an existing indoor ice skating arena. The District's proposal would involve the help of private-sector partners.

The current Proposed Action is to transfer approximately 14 acres of NPS property situated on the north side of Fort Dupont Park along Ely Place in Southeast Washington, DC, to the District. This land is not in an area associated with the Civil War Defense of Washington, and does not contain earthworks or other historic or archeological resources. Once transferred, this property will no longer be part of the Park and no longer be managed or administered by the NPS. This transfer is part of an effort by the District to expand public facilities and recreational opportunities for area youth the NPS supports. The new recreational facilities and programs would be developed and operated by the District and its partners.

Information and comments gathered during scoping and public meetings will be used to identify the range of issues and potential impacts of this proposed action. It may also be used for other planning and decision-making.

Dated: April 23, 2008.
Joseph M. Lawler,
Regional Director, National Capital Region.

[FR Doc. E8-14213 Filed 6-23-08; 8:45 am]

BILLING CODE 4312-JK-P